DEPARTMENT OF COMMERCE

National Oceanic and Atmospheric Administration

Agency Information Collection Activities; Submission to the Office of Management and Budget (OMB) for Review and Approval; Comment Request; Nautical Discrepancy Reporting System

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on January 15, 2020, during a 60-day comment period. This notice allows for an additional 30 days for public comments.

Agency: National Oceanic and Atmospheric Administration.

Title: Nautical Discrepancy Reporting System.

OMB Control Number: 0648-0007.

Form Number(s): None.

Type of Request: Regular submission (revision and extension of an existing collection).

Number of Respondents: 905.

Average Hours per Response: ASSIST entry: 10 min; Citizen Science Chart Update: 30 minutes.

Total Annual Burden Hours: 680.

Needs and Uses: NOAA's Office of Coast Survey is the nation's nautical chart maker, maintaining and updating over a thousand charts covering the 3.5 million square nautical miles of coastal waters in the U.S. Exclusive Economic Zone and the Great Lakes. The marine transportation system relies on charting accuracy and precision to keep navigation safe and coastal communities protected from environmental disasters at sea.

Coast Survey also writes and publishes the United States Coast Pilot®, a series of nine nautical books that supplement nautical charts with essential marine information that cannot be shown graphically on the charts and are not readily available elsewhere. Subjects include, but are not limited to, channel descriptions, anchorages, bridge and cable clearances, tides and tidal currents, prominent features, pilotage, towage, weather, ice conditions, wharf descriptions, dangers, routes, traffic separation schemes, small craft facilities and Federal Regulations applicable to navigation.

The marine environment and shorelines are constantly changing. NOAA makes every effort to update information portrayed in charts and described in the Coast Pilot. Sources of information include, but are not limited to: Pilot associations, shipping companies, towboat operators, state marine authorities, city marine authorities, local port authorities, marine operators, hydrographic research vessels, naval vessels, Coast Guard cutters, merchant vessels, fishing vessels, pleasure boats, U.S. Power Squadron Units, U.S. Coast Guard Auxiliary Units, and the U.S. Army Corps of Engineers.

The purpose of NOAA's Nautical Discrepancy Reporting System is to offer a formal, standardized instrument for recommending changes, corrections, and updates to nautical charts and the Coast Pilot, and to monitor and document the accepted changes. Coast Survey solicits information through the stakeholder engagement and feedback tool ASSIST (https://www.nauticalcharts.noaa.gov/customer-service/assist/).

Coast Survey is proposing to add a Citizen Science component to the collection, which would allow boating groups or individuals to submit reports to update the charts. Adding the Citizen Science component to the collection method will benefit Coast Survey by allowing the public to “adopt” a product or part of a product and provide annual data updates that directly affect that product or products. Data obtained through these systems is used to update U.S. nautical charts and the United States Coast Pilot.

Affected Public: Business or other for profit; individuals or households; not for- profit institutions; federal government; state, local or tribal government.

Frequency: Annual and periodic.

Respondent's Obligation: Voluntary.

Legal Authority: None.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0007.

Sheleen Dumas,
Department PRA Clearance Officer, Office of the Chief Information Officer, Commerce Department.

[FR Doc. 2020-10464 Filed 5-14-20; 8:45 am]

BILLING CODE 3510-JE-P